DEPARTMENT OF THE INTERIOR

Fish and Wildlife Service

[Docket No. FWS-HQ-IA-2014-0018; 96300-1671-0000-R4]

Conference of the Parties to the Convention on International Trade in Endangered Species of Wild Fauna and Flora (CITES); Seventeenth Regular Meeting; Provisional Agenda; Announcement of Public Meeting

AGENCY: Fish and Wildlife Service, Interior.

ACTION: Notice.

SUMMARY: The United States, as a Party to the Convention on International Trade in Endangered Species of Wild Fauna and Flora (CITES), will attend the seventeenth regular meeting of the Conference of the Parties to CITES (CoP17) in Johannesburg, South Africa, September 24 to October 5, 2016. Currently, the United States is developing its negotiating positions on proposed resolutions, decisions, and amendments to the CITES Appendices (species proposals), as well as other agenda items that have been submitted by other Parties, the permanent CITES committees, and the CITES Secretariat for consideration at CoP17. With this notice we announce the provisional agenda for CoP17, solicit your comments on the items on the provisional agenda, and announce a public meeting to discuss the items on the provisional agenda.

DATES:

Public meeting: The public meeting will be held on July 19, 2016, at 1:00 p.m.

Comment submission: In developing the U.S. negotiating positions on species proposals and proposed resolutions, decisions, and other agenda items submitted by other Parties, the permanent CITES committees, and the CITES Secretariat for consideration at CoP17, we will consider written information and comments you submit if we receive them by August 8, 2016.

ADDRESSES:

Public Meeting

The public meeting will be held in the South Interior Building Auditorium at 1951 Constitution Avenue NW., Washington, DC. Directions to the building can be obtained by contacting the Division of Management Authority (see FOR FURTHER INFORMATION CONTACT). For more information about the meeting, see “Announcement of Public Meeting” under SUPPLEMENTARY INFORMATION.

Comment Submission

You may submit comments pertaining to items on the provisional agenda for discussion at CoP17 by one of the following methods:

• Federal eRulemaking Portal: http://www.regulations.gov. Follow the instructions for submitting comments on Docket No. FWS-HQ-IA-2014-0018 (the docket number for this notice).

• U.S. mail or hand-delivery: Public Comments Processing, Attn: FWS-HQ-IA-2014-0018; Division of Policy, Performance, and Management Programs; U.S. Fish and Wildlife Service; 5275 Leesburg Pike, MS BPHC; Falls Church, VA 22041.

We will not consider comments sent by email or fax or to an address not listed in ADDRESSES. If you submit a comment via http://www.regulations.gov, your entire comment, including any personal identifying information, will be posted on the Web site. If you submit a hardcopy comment that includes personal identifying information, you may request at the top of your document that we withhold this information from public review. However, we cannot guarantee that we will be able to do so. We will post all hardcopy comments on http://www.regulations.gov. Comments and materials we receive, as well as supporting documentation, will be available for public inspection on http://www.regulations.gov, or by appointment, between 8 a.m. and 4 p.m., Monday through Friday, except Federal holidays, at: U.S. Fish and Wildlife Service Headquarters, Division of Management Authority, 5275 Leesburg Pike, Falls Church, VA 22041-3803; telephone 703-358-2095.

FOR FURTHER INFORMATION CONTACT: For information pertaining to resolutions, decisions, and other agenda items, contact: Craig Hoover, Chief, Division of Management Authority; telephone 703-358-2095; facsimile 703-358-2298. For information pertaining to species proposals, contact: Rosemarie Gnam, Chief, Division of Scientific Authority; telephone 703-358-1708; fascsimile 703-358-2276.

SUPPLEMENTARY INFORMATION:

Background

The Convention on International Trade in Endangered Species of Wild Fauna and Flora, hereinafter referred to as CITES or the Convention, is an international treaty designed to control and regulate international trade in certain animal and plant species that are now or potentially may become threatened with extinction. These species are listed in Appendices to CITES, which are available on the CITES Secretariat's Web site at http://www.cites.org/eng/app/index.php.

Currently 181 countries and the European Union have ratified, accepted, approved, or acceded to CITES; these 182 entities are known as Parties. The Convention calls for regular biennial meetings of the Conference of the Parties, unless the Conference of the Parties decides otherwise. At these meetings, the Parties review the implementation of CITES, make provisions enabling the CITES Secretariat in Switzerland to carry out its functions, consider amendments to the lists of species in Appendices I and II, consider reports presented by the Secretariat and the permanent CITES committees (Standing, Animals, and Plants Committees), and make recommendations for the improved effectiveness of CITES. Any country that is a Party to CITES may propose amendments to Appendices I and II, resolutions, decisions, and other agenda items for consideration by all of the Parties at the meetings.

This is our fifth in a series of Federal Register notices that, together with the announced public meeting, provide you with an opportunity to participate in the development of U.S. negotiating positions for the seventeenth regular meeting of the Conference of the Parties to CITES (CoP17). We published our first CoP17-related Federal Register notice on June 27, 2014 (79 FR 36550), in which we requested information and recommendations on species proposals for the United States to consider submitting for consideration at CoP17. In that notice, we also described the U.S. approach to preparations for CoP17. We published our second such Federal Register notice on May 11, 2015 (80 FR 26948), in which we requested information and recommendations on proposed resolutions, decisions, and other agenda items for the United States to consider submitting for consideration at CoP17, and provided preliminary information on how to request approved observer status for non-governmental organizations that wish to attend the meeting. In our third CoP17-related Federal Register notice, published on August 26, 2015 (80 FR 51830), we requested public comments and information on species proposals that the United States is considering submitting for consideration at CoP17; and in our fourth such notice, published on December 4, 2015 (80 FR 75873), we requested public comments and information on proposed resolutions, decisions, and other agenda items that the United States was considering submitting for consideration at CoP17, and provided more information on how to request approved observer status for non-governmental organizations that wish to attend the meeting. A link to the complete list of those Federal Register notices, along with information on U.S. preparations for CoP17, can be found at http://www.fws.gov/international/cites/cop17. You may obtain additional information on those Federal Register notices from the following sources: For information on proposed resolutions, decisions, and other agenda items, contact the U.S. Fish and Wildlife Service, Division of Management Authority, 5275 Leesburg Pike, MS-IA, Falls Church, VA 22041; and for information on species proposals, contact the Division of Scientific Authority, 5275 Leesburg Pike, MS-IA, Falls Church, VA 22041. Our regulations governing this public process are found in 50 CFR 23.87.

On April 26 and 27, 2016, the United States submitted to the CITES Secretariat, for consideration at CoP17, its species proposals, proposed resolutions, proposed decisions, and other agenda items. These documents are available on our Web site at http://www.fws.gov/international/cites/cop17.

Announcement of Provisional Agenda for CoP17

The provisional agenda for CoP17 is currently available on the CITES Secretariat's Web site at http://www.cites.org/eng/cop/17/doc/index.php. The working documents associated with the items on the provisional agenda, including proposed resolutions, proposed decisions, and discussion documents, are also available on the Secretariat's Web site. To view the working document associated with a particular agenda item, access the provisional agenda at the above Web site, locate the particular agenda item, and click on the document link for that agenda item in the column entitled “Document.” Finally, the species proposals that will be considered at CoP17 are available on the Secretariat's Web site. Proposals for amendment of Appendices I and II can be accessed at the web address given above. We look forward to receiving your comments on the items on the provisional agenda.

Announcement of Public Meeting

We will hold a public meeting to discuss the items on the provisional agenda for CoP17. The public meeting will be held on the date specified in the DATES section and at the address specified in the ADDRESSES section. You can obtain directions to the building by contacting the Division of Management Authority (see the FOR FURTHER INFORMATION CONTACT section above). Please note that the South Interior Building Auditorium is accessible to the handicapped and all persons planning to attend the meeting will be required to present photo identification when entering the building. Persons who plan to attend the meeting and who require interpretation for the hearing impaired must notify the Division of Management Authority by July 5, 2016. For those who cannot attend the public meeting but are interested in watching via live stream please go to our Web site http://www.fws.gov/international/cites/cop17/index.html, and look for the link to the live feed.

Future Actions

Through an additional notice and Web site posting in advance of CoP17, we will inform you about tentative U.S. negotiating positions on species proposals, proposed resolutions, proposed decisions, and agenda items that were submitted by other Parties, the permanent CITES committees, and the CITES Secretariat for consideration at CoP17.

Authority: The primary author of this notice is Clifton A. Horton, Division of Management Authority; under the authority of the U.S. Endangered Species Act of 1973, as amended (16 U.S.C. 1531 et seq.).

Dated: June 9, 2016.
Stephen Guertin,
Acting Director, Fish and Wildlife Service.

[FR Doc. 2016-14870 Filed 6-22-16; 8:45 am]

BILLING CODE 4310-55-P